DEPARTMENT OF TRANSPORTATION

Maritime Administration

[Docket Number: MARAD-2001-8932]

Requested Administrative Waiver of the Coastwise Trade Laws

AGENCY: Maritime Administration, Department of Transportation.

ACTION: Invitation for public comments on a requested administrative waiver of the Coastwise Trade Laws for the vessel CALEDONIA.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. The vessel is currently operating in Washington's San Juan Islands under a small vessel waiver granted pursuant to actions in Docket MARAD-2000-7075. The current application involves a new owner and new operating area. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before March 26, 2001.

ADDRESSES: Comments should refer to docket number MARAD-2001-8932. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, S.W., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-Build Requirement

(1) Name of vessel and owner for which waiver is requested. Name of vessel: CALEDONIA. Owner: California Maritime Academy Foundation, Inc.

(2) Size, capacity and tonnage of vessel. According to the applicant: “84.9′ in length by 8.6′ in width, and 9.4′ in depth; accommodating not more than 12 passengers; 99 gross tons.”

(3) Intended use for vessel, including geographic region of intended operation and trade. According to the applicant: “Vessel's intended use is as a crewed charter vessel [by Alaska and NW Charters, LLC] in S.E. Alaska accommodating not more than 12 passengers. The intended geographic region is from Dixon Entrance on the South to a latitude equal to Skagway, Alaska on the north and to a point 50 miles west of Sitka, Alaska on the west. Thus, the entire S.E. Alaskan waterways area.”

(4) Date and Place of construction and (if applicable) rebuilding. Date of construction: 1973. Place of construction: Holland—or Foreign.

(5) A statement on the impact this waiver will have on other commercial passenger vessel operators. According to the applicant: “We feel this will have little impact on existing operators as we ALREADY operate a Crewed Charter Business in S.E. Alaska (FOR THE PAST THREE YEARS) and are in the process of SELLING our existing Crewed Charter Boat “High Scooter” and thus will ONLY be substituting vessels. Thus, the real impact is very marginal.

Our current web page is www.alaskanwcharters.com. There are other existing boats in the region both foreign and U.S., which operate similar operations and most if not all run at 95 to 100% full basis. There are even vessels, which are currently booked into 2002 because the demand for such charters is extremely high. As most of the existing boats have well established client bases—as do we—the impact of this—substitution vessel for our existing vessel will be non-existent.”

(6) A statement on the impact this waiver will have on U.S. shipyards. According to the applicant: “As the vessel was built almost 30 years ago and as new vessels of this size are too expensive to make a profitable charter business out of—the impact will again be nonexistent. Additionally, as we are planning some changes and redecorating of the 30 year old vessel—to bring the vessel into 2001 standards—it will actually bring additional business to the vessel and ship builders in the area.”

Dated: February 20, 2001.
By Order of the Maritime Administrator.
Joel C. Richard,
Secretary, Maritime Administration.

[FR Doc. 01-4523 Filed 2-22-01; 8:45 am]

BILLING CODE 4910-81-P